DEPARTMENT OF ENERGY

Federal Energy Regulatory Commission

[Docket No. ER02-815-016, et al.]

Southern Company Services, Inc., et al.; Electric Rate and Corporate Filings

August 2, 2004.

The following filings have been made with the Commission. The filings are listed in ascending order within each docket classification.

1. Southern Company Services, Inc.

[Docket Nos. ER02-851-016 and ER04-151-001]

Take notice that on July 27, 2004, Southern Company Service, Inc. on behalf of Alabama Power Company, Georgia Power Company, Gulf Power Company, Mississippi Power Company and Savannah Electric and Power Company (collectively Southern Companies) submitted for filing a Notification of an Accounting Adjustment to the formula rate component of Southern Companies' Open Access Transmission Tariff, FERC Electric Tariff, Fourth Revised Volume No. 5.

Southern Companies states that a copy of the Notification has been served on each person designated on the official service list.

Comment Date: 5 p.m. eastern time on August 17, 2004.

2. Entergy Services, Inc.

[Docket No. ER03-861-003]

Take notice that on July 27, 2004, Entergy Services, Inc., on behalf of Entergy Arkansas, Inc., Entergy Gulf States, Inc., Entergy Louisiana, Inc., Entergy Mississippi, Inc., and Entergy New Orleans, Inc., (collectively, the Entergy Operating Companies) tendered for filing a supplemental refund report in compliance with the Commission's letter order issued May 27, 2004, in Docket No. ER03-861-000, 107 FERC ¶ 61,193 (2004).

Comment Date: 5 p.m. eastern time on August 17, 2004.

3. Orion Power MidWest, L.P.

[Docket No. ER04-717-001]

Take notice that on July 28, 2004, Orion Power MidWest, L.P. (OPMW) submitted a compliance filing pursuant to the Commission's order issued May 28, 2004, in Docket No. ER04-717-000.

Comment Date: 5 p.m. eastern time on August 18, 2004.

4. PJM Interconnection, L.L.C.

[Docket No. ER04-776-001]

Take notice that, on July 28, 2004, PJM Interconnection, L.L.C. (PJM) submitted a compliance filing pursuant to the Commission's order issued June 28, 2004, in Docket No. ER04-776-000, PJM Interconnection, L.L.C., 107 FERC ¶ 61,322 (2004).

PJM states that copies of the filing were served on parties on the official service list in the above-captioned proceeding.

Comment Date: 5 p.m. eastern time on August 18, 2004.

5. Duke Energy Corporation

[Docket No. ER04-916-001]

Take notice that on July 27, 2004, Duke Energy Corporation on behalf of Duke Electric Transmission (collectively Duke) submitted a compliance for filing pursuant to the letter order issued July 26, 2004, in Docket No. ER04-916-000. Duke states that the filing corrects the cover sheets for the Network Integration Service Agreement with New Horizon Electric Cooperative, Inc. filed on June 4, 2004.

Comment Date: 5 p.m. eastern time on August 17, 2004.

6. Pacific Gas and Electric Company

[Docket No. ER04-1036-001]

Take notice that on July 27, 2004, Pacific Gas and Electric Company (PG&E) filed an amendment to its July 22, 2004, filing of Service Agreement for Wholesale Distribution Service and Interconnection Agreement between PG&E and Port of Stockton, designated as Service Agreement No. 18 under Pacific Gas and Electric Electric Tariff, First Revised Volume No. 4.

PG&E states that copies of this filing have been served upon the California Independent System Operator, the California Public Utilities Commission and Port of Stockton.

Comment Date: 5 p.m. eastern time on August 17, 2004.

7. Fulton Cogernation Associates, L.P., Rensselaer Plant Holdco, L.L.C.

[ER04-1044-000, ER04-1045-000, and ER04-1046-000]

Take notice that on July 27, 2004, Fulton Cogeneration Associates, L.P. (FCA), and Rensselaer Plant Holdco, L.L.C. (RPH) (jointly Applicants) filed with the Commission an application under section 205 of the Federal Power Act requesting that the Commission terminate FCA's existing, joint Market-Based Tariff for power plants located in Fulton, New York and in Rensselaer, New York and simultaneously accept for filing separate Market-Based Tariffs for FCA and RPH, and otherwise grant Applicants the authority to sell energy in wholesale transactions at negotiated, market-based rates pursuant to part 35 of the Commission's regulations.

Comment Date: 5 p.m. eastern time on August 17, 2004.

8. San Diego Gas & Electric Company

[Docket No. ER04-1048-000]

Take notice that on July 28, 2004, San Diego Gas & Electric Company (SDG&E) tendered for filing Service Agreement No. 19 under San Diego Gas & Electric FERC Electric Tariff, First Revised Volume No. 6. San Diego states that the agreement provides for SDG&E to construct, operate and maintain proposed interconnection facilities required for a pumped storage hydro-electric facility being constructed and owned by the San Diego County Water Authority in San Diego County. SDG&E requests an effective date of July 28, 2004.

SDG&E states that copies of the filing have been served on the San Diego County Water Authority, on the California Independent System Operator Corporation and on the California Public Utilities Commission.

Comment Date: 5 p.m. eastern time on August 18, 2004.

9. American Electric Power Service Corporation

[Docket No. ER04-1049-000]

Take notice that on July 27, 2004, American Electric Power Service Corporation (AEPSC) submitted for filing letter agreements between AEPSC and FPL Energy Cowboy Wind, LLC and between AEPSC and FPL Energy Callahan Wind, LP, designated as Service Agreements 581 and 548, respectively, under Operating Companies of the American Electric Power System FERC Electric Tariff, Third Revised Volume No. 1. AEPSC requests an effective date of June 14, 2004, for Service Agreement No. 581 and June 24, 2004, for Service Agreement No. 548.

AEPSC states that it has served copies of the filing on FPL Energy Cowboy Wind, LLC, FPL Energy Callahan Wind, LP and the Public Utility Commission of Texas.

Comment Date: 5 p.m. eastern time on August 17, 2004.

10. Arizona Public Service Company

[Docket No. ER04-1050-000]

Take notice that on July 28, 2004, Arizona Public Service Company, (APS) tendered for filing a Notice of Cancellation of Arizona Public Service Company's Rate Schedule 78. a service agreement with Los Angeles Department of Water & Power. APS requests an effective date of June 15, 2004.

Arizona Public Service Company states that copies of this filing were supplied to Los Angeles Department of Water & Power and the Arizona Corporation Commission.

Comment Date: 5 p.m. eastern time on August 18, 2004.

11. Arizona Public Service Company

[Docket No. ER04-1051-000]

Take notice that on July 28, 2004, Arizona Public Service Company, (APS) tendered for filing a Notice of Cancellation of Arizona Public Service Company's Rate Schedule 92, a service agreement with Tucson Electric Power Company. APS requests an effective date of June 15, 2004.

Arizona Public Service Company states that copies of this filing were supplied to Tucson Electric Power Company and the Arizona Corporation Commission.

Comment Date: 5 p.m. eastern time on August 18, 2004.

12. Arizona Public Service Company

[Docket No. ER04-1052-000]

Take notice that on July 28, 2004, Arizona Public Service Company, (APS) tendered for filing a Notice of Cancellation of Arizona Public Service Company's Rate Schedule 102, a service agreement with Public Service Company of New Mexico. APS requests an effective date of June 15, 2004.

Arizona Public Service Company states that copies of this filing were supplied to Public Service Company of New Mexico, the New Mexico Regulation Commission and the Arizona Corporation Commission.

Comment Date: 5 p.m. eastern time on August 18, 2004.

13. Arizona Public Service Company

[Docket No. ER04-1053-000]

Take notice that on July 28, 2004, Arizona Public Service Company, (APS) tendered for filing a Notice of Cancellation of Arizona Public Service Company's Rate Schedule 110, a service agreement with El Paso Electric Company. APS requests an effective date of June 15, 2004.

Arizona Public Service Company states that copies of this filing were supplied to El Paso Electric Company, the Public Utility Commission of Texas and the Arizona Corporation Commission.

Comment Date: 5 p.m. eastern time on August 18, 2004.

14. Arizona Public Service Company

[Docket No. ER04-1054-000]

Take notice that on July 28, 2004, Arizona Public Service Company, (APS) tendered for filing a Notice of Cancellation of Arizona Public Service Company's Rate Schedule 115, a service agreement with the City of Farmington. APS requests an effective date of June 15, 2004.

Arizona Public Service Company states that copies of this filing were supplied to the City of Farmington and the Arizona Corporation Commission.

Comment Date: 5 p.m. eastern time on August 18, 2004.

15. Riverside Energy Center, LLC

[Docket No. ER04-1055-000]

Take notice that on July 28, 2004, Riverside Energy Center, LLC (Riverside) tendered for filing Riverside Energy Center, LLC Rate Schedule No. 2 for reactive power services to the Midwest Independent System Operator as transmission provider over facilities owed by American Transmission Company LLC. Riverside requests an effective date of October 1, 2004.

Riverside states that copies of the filing were served upon the American Transmission Company, Midwest Independent System Operator and Public Service Commission of Wisconsin.

Comment Date: 5 p.m. eastern time on August 18, 2004.

16. LUZ Solar Partners Ltd., III

[Docket No. QF86-734-007]

Take notice that on July 14, 2004, LUZ Solar Partners Ltd., III, (LUZ Solar) filed with the Commission an Application for Recertification of a facility as a qualifying small power facility pursuant to section 292.207(b) of the Commission's regulations.

LUZ Solar states that it is an eligible solar facility within the meaning of 16 U.S.C. 796(17)(E) with a maximum net electric power output of approximately 37 MW in the solar made using a rolling one-hour period. LUZ Solar further states that it is located near Kramer Junction, California and the electric output is sold to Southern California Edison Company. LUZ Solar states that this application is to update data to reflect changes in ownership of its facility.

Comment Date: 5 p.m. eastern time on August 16, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1738 Filed 8-9-04; 8:45 am]

BILLING CODE 6717-01-P